OCCUPATIONAL SAFETY AND HEALTH REVIEW COMMISSION

Privacy Act of 1974; New and Revised Systems of Records

AGENCY: Occupational Safety and Health Review Commission.

ACTION: Notice of addition and revision to Systems of Records.

SUMMARY: In accordance with the Privacy Act of 1974, 5 U.S.C. 552a, as amended, the Occupational Safety and Health Review Commission (OSHRC) is proposing in this notice (1) the addition of a new system of records and (2) revisions to its preexisting systems of records last published in full text on April 14, 2006 at 71 FR 19556.

DATES: Comments must be received by OSHRC on or before October 24, 2007. The new and revised systems of records will become effective on November 23, 2007 without any further notice in the Federal Register, unless comments or government approval procedures necessitate otherwise.

ADDRESSES: You may submit comments by any of the following methods:

• E-mail: regsdocket@oshrc.gov. Include “PRIVACY ACT SYSTEM OF RECORDS” in the subject line of the message.

• Fax: (202) 606-5417.

• Mail: One Lafayette Centre, 1120 20th Street, NW., Ninth Floor, Washington, DC 20036-3457.

• Hand Delivery/Courier: same as mailing address.

Instructions: All submissions must include your name, return address and e-mail address, if applicable. Please clearly label submissions as “PRIVACY ACT SYSTEM OF RECORDS.” If you submit comments by e-mail, you will receive an automatic confirmation e-mail from the system indicating that we have received your submission. If, in response to your comment submitted via e-mail, you do not receive a confirmation e-mail within five working days, contact us directly at (202) 606-5410.

FOR FURTHER INFORMATION CONTACT: Ron Bailey, Attorney-Advisor, Office of the General Counsel, via telephone at (202) 606-5410, or via e-mail at rbailey@oshrc.gov.

SUPPLEMENTARY INFORMATION: The Privacy Act of 1974, 5 U.S.C. 552a(e)(4), requires federal agencies such as OSHRC to propose additions and revisions to its systems of records in a Federal Register publication. As detailed below, OSHRC is proposing the addition of one new system of records, as well as revisions to all its preexisting systems of records.

New System of Records. OSHRC conducted an annual review of the systems of records that it presently maintains. OSHRC's review uncovered one possible system-of-records—the database of Commission cases on OSHRC's Web site—that is not included in OSHRC's current system-of-records notice. 71 FR 19556, Apr. 14, 2006. The capability exists for agency employees to search for records in this database by entering names or other individual identifiers into the search engine on the homepage of the Web site. Although OSHRC has not found that employees in fact search for decisions using individual identifiers, OSHRC prefers to exercise caution by recognizing this as a system of records for purposes of the Privacy Act. OSHRC would designate this system as OSHRC-10. Notice of OSHRC's proposed new system of records (OSHRC-10) is published below.

Revisions to Preexisting Systems of Records. OSHRC recently revised its regulations implementing the Privacy Act. 71 FR 57416, Sept. 29, 2006. One revised provision, 29 CFR 2200.3(a), states that “[t]he Chairman shall designate an OSHRC employee as the Privacy Officer, and shall delegate to the Privacy Officer the authority to ensure agency-wide compliance with” OSHRC's Privacy Act regulations. In light of this revision to OSHRC's Privacy Act regulations, individuals interested in inquiring about, gaining access to, or contesting the accuracy of their records should now notify the Privacy Officer rather than the Executive Director. Also, the provision that sets forth the procedures for requesting amendment of records, which was previously at 29 CFR 2400.7(a) and (b), is now at 29 CFR 2400.8. Finally, the procedures for appealing the denial of a request to inspect, copy, or amend a record, which was previously at 29 CFR 2400.7(c), is now at 29 CFR 2400.9.

In the notice of OSHRC's proposed new system of records (OSHRC-10) published below, the information included in the three sections pertaining to “Record Access Procedures,” “Notification Procedures,” and “Contesting Record Procedures,” which have changed as a result of revisions made to OSHRC's Privacy Act regulations, are also applicable to OSHRC's preexisting system of records—OSHRC-1 through OSHRC-9.

OSHRC-10

SYSTEM NAME:

Database of Commission and ALJ Decisions on OSHRC Web site.

SECURITY CLASSIFICATION:

None.

SYSTEM LOCATION:

Records are located on a Web server at the Government Printing Office (GPO), 732 North Capitol Street, NW., Washington, DC 20401.

CATEGORIES OF INDIVIDUALS COVERED BY THE SYSTEM:

This system of records covers all individuals referenced and described in Commission and ALJ decisions, including sole proprietors who were cited by OSHA, employees and other witnesses, attorney and non-attorney representatives of each party, and the Commissioners and ALJs.

CATEGORIES OF RECORDS IN THE SYSTEM:

This system of records includes final decisions issued by the Commission since 1979, and final decisions issued by the ALJs since 1993. The decisions may contain the following information: (1) The names and locations (city and state) of the individuals representing each party; (2) the names of sole proprietors cited by OSHA, as well as employees and other witnesses, and information describing those individuals, including job title and duties, medical history, and other descriptive information that is relevant to the disposition of a case; and (3) the names and job titles of the Commissioners and ALJs.

AUTHORITY FOR MAINTENANCE OF THE SYSTEM:

Electronic Freedom of Information Act Amendments of 1996, Public Law 104-231, 110 Stat. 3048 (codified as amended in 5 U.S.C. 552); 29 U.S.C. 661(g).

PURPOSE(S):

This system of records is maintained in order to make Commission and ALJ decisions more accessible to the public and agency employees.

ROUTINE USES OF RECORDS MAINTAINED IN THE SYSTEM, INCLUDING CATEGORIES OF USERS AND THE PURPOSES OF SUCH USES:

In addition to the Blanket Routine uses discussed in 71 FR 19556-19557, Apr. 14, 2006, records included in OSHRC adjudicative decisions may be disclosed to the public, via OSHRC's Web site, pursuant to section 12(g) of the OSH Act, 29 U.S.C. 661(g), which states that “[e]very official act of the Commission shall be entered of record, and its hearings and records shall be open to the public.” Only personal information that is relevant and necessary to the disposition of OSHRC cases will be included in these decisions.

Also, records are disclosed to GPO to make certain that decisions published on OSHRC's Web site are current.

DISCLOSURES TO CONSUMER REPORTING AGENCIES:

None.

POLICIES AND PRACTICES FOR STORING, RETRIEVING, ACCESSING, RETAINING, AND DISPOSING OF RECORDS IN THE SYSTEM:

STORAGE:

Records are stored on a Web server located at the GPO.

RETRIEVABILITY:

Records can be retrieved by using the search engine on the homepage of OSHRC's Web site to conduct a simplified Boolean search.

RETENTION AND DISPOSAL:

Records are retained indefinitely on the GPO Web server.

SAFEGUARDS:

OSHRC sends updates for its Web site via e-mail to GPO, which is located in a secured federal complex. GPO secures information on the Web server in accordance with federal standards.

SYSTEM MANAGER(S) AND ADDRESS:

Information Technology Specialist, OSHRC, 1120 20th Street, NW., Ninth Floor, Washington, DC 20036-3457.

RECORD ACCESS PROCEDURES:

Individuals who wish to gain access to their records should notify: Privacy Officer, OSHRC, 1120 20th Street, NW., Ninth Floor, Washington, DC 20036-3457. For an explanation on how such requests should be drafted, refer to 29 CFR 2400.6 (Procedures for requesting records).

NOTIFICATION PROCEDURE:

Individuals interested in inquiring about their records should notify: Privacy Officer, OSHRC, 1120 20th Street, NW., Ninth Floor, Washington, DC 20036-3457. For an explanation on how such requests should be drafted, refer to 29 CFR 2400.5 (Notification), and 29 CFR 2400.6 (Procedures for requesting records).

CONTESTING RECORD PROCEDURES:

Individuals who wish to contest their records should notify: Privacy Officer, OSHRC, 1120 20th Street, NW., Ninth Floor, Washington, DC 20036-3457. For an explanation on the specific procedures for contesting the contents of a record, refer to 29 CFR 2400.8 (Procedures for requesting amendment), and 29 CFR 2400.9 (Procedures for appealing).

RECORD SOURCE CATEGORIES:

Information in this system of records is derived from case records that are developed during litigation before the Commission and/or the ALJs and, thus, the information may come from individuals who are the subjects of the records or from other sources.

EXEMPTIONS CLAIMED FOR THE SYSTEM:

None.

Dated: September 18, 2007.
Horace A. Thompson III,
Chairman.

[FR Doc. E7-18746 Filed 9-21-07; 8:45 am]

BILLING CODE 7600-01-P